DEPARTMENT OF AGRICULTURE

Forest Service

Plumas County Resource Advisory Committee (RAC)

AGENCY: Forest Service, USDA.

ACTION: Notice of meeting.

SUMMARY: The Plumas County Resource Advisory Committee (RAC) will hold a meeting on December 2, 2005, in Quincy, CA. The primary purpose of the meeting is to review, discuss and refine Cycle 6 timelines and application materials, view a presentation on national RAC survey findings and consider recommending the Corridor Fuelbreak project to the Plumas National Forest Supervisor for funding approval.

DATES & ADDRESSES: The December 2, 2005 meeting will take place from 9-12 at the Mineral Building-Plumas/Sierra County Fairgrounds, 208 Fairgrounds Road, Quincy, CA.

FOR FURTHER INFORMATION CONTACT: Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the December 2 meeting include: (1) Forest Service Update; (2) Review, discuss, and refine Cycle 6 timelines and application materials; (3) Review Corridor project, discuss, and make a recommendation; (4) Presentation: national RAC survey findings; and (5) Future meeting schedule and agenda. The meetings are open to the public and individuals may address the Committee after being recognized by the Chair. Other RAC information including previous meeting agendas and minutes may be obtained at http://wwwnotes.fs.fed.us:81/r4/payments_to_states.

Dated: November 14, 2005.
Robert G. Macwhorter,
Deputy Forest Supervisor.

[FR Doc. 05-23063 Filed 11-21-05; 8:45 am]

BILLING CODE 3410-11-M